DEPARTMENT OF HOUSING AND URBAN DEVELOPMENT

[Docket No. FR-6317-N-01]

Mortgagee Review Board: Administrative Actions

AGENCY: Office of the Assistant Secretary for Housing-Federal Housing Commissioner, HUD.

ACTION: Notice.

SUMMARY: In compliance with section 202(c)(5) of the National Housing Act, this notice advises of the cause and description of administrative actions taken by HUD's Mortgagee Review Board against FHA-approved mortgagees.

FOR FURTHER INFORMATION CONTACT: Nancy A. Murray, Secretary to the Mortgagee Review Board, 451 Seventh Street SW, Room B-133/3150, Washington, DC 20410-8000; telephone (202) 402-2701 (this is not a toll-free number). Persons with hearing or speech impairments may access this number through TTY by calling the Federal Information Service at (800) 877-8339 (this is a toll-free number).

SUPPLEMENTARY INFORMATION: Section 202(c)(5) of the National Housing Act (12 U.S.C. 1708(c)(5)) requires that HUD “publish in the Federal Register a description of and the cause for administrative action against a[n FHA-approved] mortgagee” by HUD's Mortgagee Review Board (“Board”). In compliance with the requirements of section 202(c)(5), this notice advises of actions that have been taken by the Board in its meetings from the beginning of fiscal year 2021, October 1, 2020, through September 30, 2021, where settlement agreements have been reached as of February 28, 2022. The notice also includes one notice of administrative action (a withdrawal) which was issued in fiscal year 2019.

I. Civil Money Penalties, Withdrawals of FHA Approval, Suspensions, Probations, and Reprimands

1. Absolute Home Mortgage Corporation, Fairfield, NJ [Docket No. 20-2122-MR]

Action: On May 11, 2021, the Board voted to enter into a settlement agreement with Absolute Home Mortgage Corporation (“Absolute Home Mortgage”) that included a civil money penalty of $15,067. The settlement did not constitute an admission of liability or fault.

Cause: The Board took this action based on the following alleged violations of FHA requirements: Absolute Home Mortgage (a) failed to timely notify FHA of a state sanction in fiscal year 2019; and (b) submitted a false certification to FHA concerning fiscal year 2019.

2. All Western Mortgage Inc d/b/a Ping Home Loans, Las Vegas, NV [Docket No. 21-2163-MR]

Action: On May 18, 2021, the Board voted to enter into a settlement agreement with All Western Mortgage Inc. (“All Western”) that included a civil money penalty of $5,000. The settlement did not constitute an admission of liability or fault.

Cause: The Board took this action based on the following alleged violation of FHA requirements: All Western failed to timely notify FHA of a state sanction in fiscal year 2019.

3. American Advisors Group, Orange, CA [Docket No. 20-2140-MR]

Action: On May 11, 2021, the Board voted to enter into a settlement agreement with American Advisors Group (“American Advisor”) that included a civil money penalty of $5,000. The settlement did not constitute an admission of liability or fault.

Cause: The Board took this action based on the following alleged violations of FHA requirements: American Advisors failed to timely notify FHA of a state sanction in fiscal year 2019.

4. American Federal Mortgage Corp., Chester, NJ [Docket No. 21-2171-MR]

Action: On June 30, 2021, the Board voted to enter into a settlement agreement with American Federal Mortgage Corp. (“American Federal”) that included a civil money penalty of $15,067. The settlement did not constitute an admission of liability or fault.

Cause: The Board took this action based on the following alleged violations of FHA requirements: American Federal (a) failed to timely notify FHA of a state sanction in fiscal year 2019; and (b) submitted a false certification to FHA concerning fiscal year 2019.

5. American Ken, Inc., Diamond Bar, CA [Docket No. 21-2174-MR]

Action: On May 11, 2021, the Board voted to enter into a settlement agreement with American Ken Inc. (“American Ken”) that included a civil money penalty of $10,245. The settlement did not constitute an admission of liability or fault.

Cause: The Board took this action based on the following alleged violation of FHA requirements: American Ken failed to timely notify FHA of a state sanction in fiscal year 2020.

6. American Neighborhood Mortgage Acceptance Co., Mount Laurel, NJ [Docket No. 20-2022-MR]

Action: On May 11, 2021, the Board voted to enter into a settlement agreement with American Neighborhood Mortgage Acceptance Co. (“Annie Mac”) that included a civil money penalty of $218,000. The settlement did not constitute an admission of liability or fault.

Cause: The Board took this action based on the following alleged violations of FHA requirements: Annie Mac serviced FHA-insured mortgages without the required state mortgage servicing license.

7. AmeriSave Mortgage Corporation, Atlanta, GA [Docket No. 20-2148-MR]

Action: On May 11, 2021, the Board voted to enter into a settlement agreement with AmeriSave Mortgage Corporation (“AmeriSave”) that included a civil money penalty of $10,067. The settlement did not constitute an admission of liability or fault.

Cause: The Board took this action based on the following alleged violation of FHA requirements: AmeriSave failed to timely notify FHA of a state sanction in fiscal year 2019.

8. Angel Oak Home Loans LLC, Atlanta, GA [Docket No. 21-2186-MR]

Action: On June 30, 2021, the Board voted to enter into a settlement agreement with Angel Oak Home Loans LLC (“Angel Oak”) that included a civil money penalty of $10,000. The settlement did not constitute an admission of liability or fault.

Cause: The Board took this action based on the following alleged violations of FHA requirements: Angel Oak (a) failed to timely notify FHA of an unresolved finding in fiscal year 2020; and (b) failed to timely notify FHA of a state sanction in fiscal year 2020.

9. Assent Mortgage, LLC, Irvine, CA [Docket No. 20-2026-MR]

Action: On May 11, 2021, the Board voted to enter into a settlement agreement with Assent Mortgage, LLC (“Assent”) that included a civil money penalty of $20,067, Assent seeking a voluntary withdrawal from the FHA program, and—after its withdrawal—Assent would refrain from applying to the FHA program for one year. The settlement did not constitute an admission of liability or fault.

Cause: The Board took this action based on the following alleged violations of FHA requirements: Assent (a) failed to disclose to FHA a sanction in fiscal year 2018 during the pendency of its FHA application; (b) submitted a false certification to FHA concerning fiscal year 2018; and (c) failed for fiscal year 2019 to remit its annual certification statements and to timely submit its audited financial statements and supplementary information.

10. Assurance Financial Group LLC, Baton Rouge, LA [Docket No. 20-2137-MR]

Action: On May 11, 2021, the Board voted to enter into a settlement agreement with Assurance Financial Group, LLC (“Assurance Financial Group”) that included a civil money penalty of $15,067. The settlement did not constitute an admission of liability or fault.

Cause: The Board took this action based on the following alleged violations of FHA requirements: Assurance Financial Group (a) failed to timely notify FHA of a state sanction in fiscal year 2019; and (b) submitted a false certification to FHA concerning fiscal year 2019.

11. Atlantic Home Loans, Inc., Parsippany, NJ [Docket No. 21-2193-MR]

Action: On June 30, 2021, the Board voted to enter into a settlement agreement with Atlantic Home Loans, Inc (“Atlantic”) that included a civil money penalty of $5,000. The settlement did not constitute an admission of liability or fault.

Cause: The Board took this action based on the following alleged violation of FHA requirements: Atlantic failed to timely notify FHA of a state sanction in fiscal year 2020.

12. Blue Ridge Bank, N.A., Greensboro, NC [Docket No. 21-2208-MR]

Action: On September 21, 2021, the Board voted to enter into a settlement agreement with Blue Ridge Bank, N.A. (“Blue Ridge Bank”) that included a civil money penalty of $5,000. The settlement did not constitute an admission of liability or fault.

Cause: The Board took this action based on the following alleged violation of FHA requirements: Blue Ridge failed to notify FHA of change in business structure in fiscal year 2021.

13. Bond Street Mortgage, LLC, Paramus, NJ [Docket No. 20-2147-MR]

Action: On November 18, 2020, the Board voted to enter into a settlement agreement with Bond Street Mortgage, LLC (“Bond Street”) that included a civil money penalty of $5,000. The settlement did not constitute an admission of liability or fault.

Cause: The Board took this action based on the following alleged violation of FHA requirements: Bond Street failed to timely notify FHA of a state sanction in fiscal year 2019.

14. Castle & Cooke Mortgage LLC, Draper, UT [Docket No. 20-2100-MR]

Action: On May 11, 2021, the Board voted to enter into a settlement agreement with Castle & Cooke Mortgage LLC (“Castle & Cooke”) that included a civil money penalty of $15,245. The settlement did not constitute an admission of liability or fault.

Cause: The Board took this action based on the following alleged violations of FHA requirements: Castle & Cooke (a) failed to timely notify FHA of a state sanction in fiscal year 2019; and (b) submitted a false certification to FHA concerning fiscal year 2019.

15. CIS Financial Services, Inc., Hamilton, AL [Docket No. 20-2123-MR]

Action: On November 18, 2020, the Board voted to enter into a settlement agreement with CIS Financial Services, Inc. (“CIS”) that included a civil money penalty of $10,000. The settlement did not constitute an admission of liability or fault.

Cause: The Board took this action based on the following alleged violations of FHA requirements: CIS (a) failed to timely notify FHA of an operating loss in excess of 20 percent of its quarter-end net worth in fiscal year 2019; and (b) failed to submit to FHA the required quarterly financial statements following a quarterly loss exceeding 20 percent of net worth.

16. CityWorth Mortgage LLC, Fairfax, VA [Docket No. 21-2205-MR]

Action: On September 21, 2021, the Board voted to enter into a settlement agreement with CityWorth Mortgage LLC (“CityWorth”) that included a civil money penalty of $15,000. The settlement did not constitute an admission of liability or fault.

Cause: The Board took this action based on the following alleged violations of FHA requirements: CityWorth (a) failed to maintain the required minimum adjusted net worth in fiscal year 2020; (b) failed to timely notify FHA that it did not meet the adjusted net worth requirement in fiscal year 2020; and (c) failed to timely notify FHA of an operating loss in excess of 20 percent of its quarter-end net worth in fiscal year 2020.

17. CU Mortgage Direct LLC, Sioux Falls, SD [Docket No. 20-2144-MR]

Action: On November 18, 2020, the Board voted to enter into a settlement agreement with CU Mortgage Direct LLC (“CU”) that included a civil money penalty of $10,000. The settlement did not constitute an admission of liability or fault.

Cause: The Board took this action based on the following alleged violations of FHA requirements: CU (a) failed to maintain the minimum required liquid assets for fiscal year 2019; and (b) failed to timely notify FHA that it did not meet the minimum liquid asset requirement in fiscal year 2019.

18. CWM Partners LP, Moore, OK [Docket No. 20-2018-MR]

Action: On May 11, 2021, the Board voted to enter into a settlement agreement with CWM Partners LP (“CWM”) that included a civil money penalty of $5,000. The settlement did not constitute an admission of liability or fault.

Cause: The Board took this action based on the following alleged violations of FHA requirements: CWM failed to timely notify FHA of a state sanction in fiscal year 2019.

19. DEVAL, LLC, Irving, TX [Docket No. 20-2124-MR]

Action: On November 18, 2020, the Board voted to enter into a settlement agreement with DEVAL, LLC (“Deval”) that included a civil money penalty of $5,000. The settlement did not constitute an admission of liability or fault.

Cause: The Board took this action based on the following alleged violation of FHA requirements: DEVAL failed to timely notify FHA of a state sanction in fiscal year 2019.

20. Diamond Residential Mortgage Corporation, Lake Forest, IL [Docket No. 19-2044-MR]

Action: On September 21, 2021, the Board voted to enter into a settlement agreement with Diamond Residential Mortgage Corporation (“Diamond Residential”) that included a civil money penalty of $813,703. The settlement did not constitute an admission of liability or fault.

Cause: The Board took this action based on the following alleged violation of FHA requirements: Diamond Residential (a) failed to timely notify FHA of two state sanctions in fiscal year 2018; (b) failed to timely notify FHA of a state sanction imposed against an employee in fiscal year 2018; (c) failed to timely notify FHA of a business change affecting a state lending license; (d) engaged in business practices that did not conform to generally accepted practices of prudent mortgagees by failing to supervise properly a branch location and a branch manager; and (e) provided false information to FHA.

21. Embrace Home Loans, Inc., Middletown, RI [Docket No. 21-2167-MR]

Action: On September 21, 2021, the Board voted to enter into a settlement agreement with Embrace Home Loans, Inc. (“Embrace”) that included a civil money penalty of $15,067. The settlement did not constitute an admission of liability or fault.

Cause: The Board took this action based on the following alleged violations of FHA requirements: Embrace (a) failed to timely notify FHA of a state sanction in fiscal year 2019; and (b) submitted a false certification to FHA concerning fiscal year 2019.

22. FFC Mortgage Corporation, Irvine, CA [Docket No. 20-2099-MR]

Action: On May 11, 2021, the Board voted to enter into a settlement agreement with FFC Mortgage Corporation (“FFC”) that included a civil money penalty of $5,000. The settlement did not constitute an admission of liability or fault.

Cause: The Board took this action based on the following alleged violation of FHA requirements: FFC failed to timely notify FHA of a state sanction in fiscal year 2019.

23. First Choice Loan Services, East Brunswick, NJ [Docket No. 20-2098-MR]

Action: On May 18, 2021, the Board voted to enter into a settlement agreement with First Choice Loan Services (“First Choice”) that included a civil money penalty of $5,000. The settlement did not constitute an admission of liability or fault.

Cause: The Board took this action based on the following alleged violation of FHA requirements: FFC failed to timely notify FHA of a state sanction in fiscal year 2019.

24. First Heritage Mortgage, LLC, Fairfax, VA [Docket No. 20-2128-MR]

Action: On May 11, 2021, the Board voted to enter into a settlement agreement with First Heritage Mortgage, LLC (“First Heritage”) that included a civil money penalty of $5,000. The settlement did not constitute an admission of liability or fault.

Cause: The Board took this action based on the following alleged violation of FHA requirements: First Heritage failed to timely notify FHA of a state sanction in fiscal year 2019.

25. Flagstar Bank, Troy, MI [Docket No. 20-2153-MR]

Action: On February 25, 2021, the Board voted to authorize a settlement with Flagstar Bank (“Flagstar”) that required Flagstar to pay the Government $70,000,000. The settlement did not constitute an admission of liability or fault.

Cause: The Board took this action based on the following allegation: Flagstar failed to act in good faith to meet certain preconditions that triggered Flagstar's repayment obligations under a 2012 False Claims Act settlement agreement.

26. FM Home Loans LLC, Brooklyn, NY [Docket No. 20-2138-MR]

Action: On June 30, 2021, the Board voted to enter into a settlement agreement with FM Home Loans LLC (“FM Home Loans”) that included a civil money penalty of $15,067. The settlement did not constitute an admission of liability or fault.

Cause: The Board took this action based on the following alleged violations of FHA requirements: FM Home Loans (a) failed to timely notify FHA of a state sanction in fiscal year 2019; and (b) submitted a false certification to FHA concerning fiscal year 2019.

27. Grande Home Loans, LLC, Dallas, TX [Docket No. 20-2119-MR]

Action: On November 18, 2020, the Board voted to enter into a settlement agreement with Grande Home Loans (“Grande Home”) that included a civil money penalty of $5,000. The settlement did not constitute an admission of liability or fault.

Cause: The Board took this action based on the following alleged violation of FHA requirements: Grande Home failed to maintain the required minimum adjusted net worth in fiscal year 2019.

28. Green Brick Mortgage, LLC, Dallas, TX [Docket No. 20-2131-MR]

Action: On May 11, 2021, the Board voted to enter into a settlement agreement with Green Brick Mortgage, LLC (“Green Brick”) that included a civil money penalty of $5,000. The settlement did not constitute an admission of liability or fault.

Cause: The Board took this action based on the following alleged violation of FHA requirements: Green Brick failed to maintain the minimum required adjusted net worth in fiscal year 2019.

29. Greenway Mortgage Funding Corporation, Middletown, NJ [Docket No. 21-2175-MR]

Action: On May 11, 2021, the Board voted to enter into a settlement agreement with Greenway Mortgage Funding Corporation (“Greenway”) that included a civil money penalty of $5,000. The settlement did not constitute an admission of liability or fault.

Cause: The Board took this action based on the following alleged violation of FHA requirements: Greenway failed to timely notify FHA of a state sanction in fiscal year 2019.

30. Group One Mortgage, Inc., Jupiter, FL [Docket No. 20-2073-MR]

Action: On November 18, 2020, the Board voted to enter into a settlement agreement with Group One Mortgage, Inc. (“Group One”) that included a civil money penalty of $24,442. The settlement did not constitute an admission of liability or fault.

Cause: The Board took this action based on the following alleged violations of FHA requirements: Group One (a) failed to maintain the minimum required adjusted net worth in fiscal years 2017 and 2018; and (b) failed to timely notify FHA that it did not meet the adjusted net worth requirement in fiscal year 2017.

31. GSF Mortgage Corporation, Brookfield, WI [Docket No. 21-2199-MR]

Action: On September 21, 2021, the Board voted to enter into a settlement agreement with GSF Mortgage Corporation (“GSF”) that included a civil money penalty of $5,000. The settlement did not constitute an admission of liability or fault.

Cause: The Board took this action based on the following alleged violation of FHA requirements: GSF failed to timely notify FHA of a state sanction in fiscal year 2020.

32. Guild Mortgage Company, San Diego, CA [Docket No. 16-cv-02909 (S.D. Cal.)]

Action: On October 8, 2020, the Board voted to accept a False Claims Act settlement agreement involving Guild Mortgage Company (“Guild”) that included a payment to the United States of $24,900,000, of which $16,600,000 was restitution. For FHA-insured loans covered by the False Claim Act settlement agreement, the Board provided Guild a release for administrative liability under 24 CFR parts 25 and 30. The settlement did not constitute an admission of liability or fault.

Cause: The Board took this action based on the following alleged violations of FHA requirements: Guild knowingly caused ineligible mortgage loans to be endorsed with FHA insurance between July 1, 2007, and December 31, 2011.

33. Guild Mortgage Company, San Diego, CA [Docket No. 19-2019-MR]

Action: On November 18, 2020, the Board voted to enter into a settlement agreement with Guild Mortgage Company (“Guild”) that included a civil money penalty of $5,000 and execution of a life-of-loan indemnification for one loan. The settlement did not constitute an admission of liability or fault.

Cause: The Board took this action based on the following alleged violations of FHA requirements: Guild (a) failed to obtain documentation evidencing a repayment agreement for the borrower's outstanding federal debt; (b) failed to verify the status of this debt; and (c) failed to document that funds used to pay off the borrower's debts prior to closing came from an acceptable source and to ensure that the borrower did not incur new debt not included in the debt-to-income ratio used during underwriting.

34. Hancock Mortgage Partners, LLC, Sugar Land, TX [Docket No. 20-2149-MR]

Action: On May 11, 2021, the Board voted to enter into a settlement agreement with Hancock Mortgage Partners, LLC (“Hancock”) that included a civil money penalty of $5,000. The settlement did not constitute an admission of liability or fault.

Cause: The Board took this action based on the following alleged violation of FHA requirements: Hancock failed to timely notify FHA of a sanction in fiscal year 2020.

35. Home Mortgage Bankers, Carolina, PR [Docket No. 20-2024-MR]

Action: On November 18, 2020, the Board voted to enter into a settlement agreement with Home Mortgage Bankers that included a civil money penalty of $20,000. The settlement did not constitute an admission of liability or fault.

Cause: The Board took this action based on the following alleged violations of FHA requirements: Home Mortgage Bankers (a) failed to maintain a warehouse line of credit in fiscal year 2018; (b) failed to timely notify FHA of a warehouse line of credit deficiency in fiscal year 2018; (c) failed to maintain a warehouse line of credit in fiscal year 2019; and (d) failed to maintain a warehouse line of credit in fiscal year 2020.

36. HomeServices Lending, LLC, Golden Valley, MN [Docket No. 20-2127-MR]

Action: On May 18, 2021, the Board voted to enter into a settlement agreement with HomeServices Lending, LLC (“HSL”) that included a civil money penalty of $10,000. The settlement did not constitute an admission of liability or fault.

Cause: The Board took this action based on the following alleged violations of FHA requirements: HSL failed to timely notify FHA of two state sanctions in fiscal year 2019.

37. Homespire Mortgage Corporation, Gaithersburg, MD [Docket No. 21-2189-MR]

Action: On September 21, 2021, the Board voted to enter into a settlement agreement with Homespire Mortgage Corporation (“Homespire”) that included a civil money penalty of $5,000. The settlement did not constitute an admission of liability or fault.

Cause: The Board took this action based on the following alleged violations of FHA requirements: Homespire failed to timely notify FHA of a state sanction in fiscal year 2020.

38. Hometown Lenders, Inc., Huntsville, AL [Docket No. 21-2196-MR]

Action: On September 21, 2021, the Board voted to enter into a settlement agreement with Hometown Lenders, Inc (“Hometown”) that included a civil money penalty of $15,067. The settlement did not constitute an admission of liability or fault.

Cause: The Board took this action based on the following alleged violations of FHA requirements: Hometown (a) failed to timely notify FHA of a state sanction in fiscal year 2020; and (b) submitted a false certification to FHA concerning fiscal year 2020.

39. Intercontinental Capital Group Inc d/b/a Fellowship HL, Melville, NY [Docket No. 20-2157-MR]

Action: On May 18, 2021, the Board voted to enter into a settlement agreement with Intercontinental Capital Group Inc. (“Intercontinental”) that included a civil money penalty of $20,067. The settlement did not constitute an admission of liability or fault.

Cause: The Board took this action based on the following alleged violations of FHA requirements: Intercontinental (a) failed to timely notify FHA of a state sanction in fiscal year 2019; (b) failed to timely notify FHA of a state sanction against a corporate officer in fiscal year 2019; and (c) submitted a false certification to FHA concerning fiscal year 2019.

40. Johnson Capital Multifamily, Inc., F/K/A Funding Incorporated, Houston, TX [Docket Nos. 20-2013-MR and 18-1897 MRT]

Action: On June 30, 2021, the Board voted to enter into a settlement agreement with Johnson Capital Multifamily, Inc. (“Johnson Capital”) that included a civil money penalty of $60,980. Separately, the Board voted to enter into a settlement agreement with Johnson Capital that included a settlement of $4,500. The settlements did not constitute an admission of liability or fault.

Cause: The Board took this action based on the following alleged violations of FHA requirements: Johnson Capital (a) failed to comply with FHA's annual recertification requirements in a timely manner following fiscal year 2017; (b) failed to maintain the required liquid assets in fiscal years 2019 and 2020; (c) failed to maintain the minimum required adjusted net worth in fiscal years 2019 and 2020; and (d) failed to timely notify FHA that it did not meet the adjusted net worth requirement or the liquid asset requirement in fiscal years 2019 and 2020.

41. Jordan West Companies LTD d/b/a U.S. Mortgages, Centennial, CO [Docket No. 19-1964-MR]

Action: On May 12, 2020, the Board voted to withdraw Jordan West Companies LTD (“Jordan West”) for a period of one year. Jordan West appealed the Board's action, and, on November 18, 2020, the Board voted to enter into a settlement agreement with Jordan West that included a civil money penalty in the amount of $60,000 and required the submission to FHA of quarter-end financial statements for a two-year period and the implementation of a detailed corrective action plan. The settlement did not constitute an admission of liability or fault.

Cause: The Board withdrew Jordan West's FHA-approval based on the following alleged violation of FHA requirements: Jordan West failed to maintain the minimum required adjusted net worth in fiscal year 2018. As to the settlement, the Board took this action based on the following alleged violations of FHA requirements: Jordan West (a) failed to maintain the minimum required adjusted net worth in fiscal years 2018, 2019, and 2020; (b) failed to timely notify FHA that it did not meet the adjusted net worth requirement in fiscal years 2018, 2019, and 2020; (c) failed to timely notify FHA of an operating loss in excess of 20 percent of its quarter-end net worth in fiscal year 2018; and (d) failed to submit to FHA the required quarterly financial statements following a quarterly loss exceeding 20 percent of net worth.

42. Keller Mortgage, LLC, Dublin, OH [Docket No. 20-2142-MR]

Action: On May 18, 2021, the Board voted to enter into a settlement agreement with Keller Mortgage, LLC (“Keller Mortgage”) that included a civil money penalty of $15,067. The settlement did not constitute an admission of liability or fault.

Cause: The Board took this action based on the following alleged violations of FHA requirements: Keller Mortgage (a) failed to timely notify FHA of a state sanction in fiscal year 2019; and (b) submitted a false certification to FHA concerning fiscal year 2019.

43. Liberty Mortgage Corporation, Vestavia, AL [Docket No. 20-2156-MR]

Action: On May 11, 2021, the Board voted to enter into a settlement agreement with Liberty Mortgage Corporation (“Liberty Mortgage”) that included a civil money penalty of $15,067. The settlement did not constitute an admission of liability or fault.

Cause: The Board took this action based on the following alleged violations of FHA requirements: Liberty Mortgage (a) failed to maintain minimum liquid asset requirements in fiscal year 2020; and (b) failed to timely notify FHA that it did not meet the minimum liquid asset requirement in fiscal year 2020.

44. LoanSnap, Inc., Costa Mesa, CA [Docket No. 20-2114-MR]

Action: On May 11, 2021, the Board voted to enter into a settlement agreement with LoanSnap, Inc (“LoanSnap”) that included a civil money penalty of $25,000. The settlement did not constitute an admission of liability or fault.

Cause: The Board took this action based on the following alleged violations of FHA requirements: LoanSnap (a) failed to timely notify FHA of an operating loss in excess of 20 percent of its quarter-end net worth in fiscal year 2019; and (b) failed to submit to FHA the required quarterly financial statements following a quarterly loss exceeding 20 percent of net worth.

45. Long Lake MSR, Inc., Troy, MI [Docket No. 20-2120-MR]

Action: On May 18, 2021, the Board voted to enter into a settlement agreement with Long Lake MSR (“Long Lake”) that included a civil money penalty of $5,000. The settlement did not constitute an admission of liability or fault.

Cause: The Board took this action based on the following alleged violations of FHA requirements: Long Lake failed to timely notify FHA of a state sanction in fiscal year 2019.

46. M Squared Financial, LLC d/b/a Fountain Mortgage, Prairie Village, KS [Docket No. 20-2132-MR]

Action: On May 18, 2021, the Board voted to enter into a settlement agreement with M Squared Financial, LLC (“M Squared”) that included a civil money penalty of $5,000. The settlement did not constitute an admission of liability or fault.

Cause: The Board took this action based on the following alleged violations of FHA requirements: M Squared failed to timely notify FHA of a state sanction in fiscal year 2019.

47. Manhattan Financial Group, Inc., Escondido, CA [Docket No. 20-2039-MR]

Action: On November 17, 2020, the Board voted to enter into a settlement agreement with Manhattan Financial Group, Inc (“Manhattan Financial”) that included a civil money penalty of $14,819. The settlement did not constitute an admission of liability or fault.

Cause: The Board took this action based on the following alleged violations of FHA requirements: Manhattan Financial (a) failed to timely notify FHA of a state sanction in fiscal year 2018; and (b) submitted a false certification to FHA concerning fiscal year 2018.

48. MMS Mortgage Services, Ltd, Farmington Hills, MI [Docket No. 20-2125-MR]

Action: On June 30, 2021, the Board voted to enter into a settlement agreement with MMS Mortgage Services (“MMS”) that included a civil money penalty of $5,000. The settlement did not constitute an admission of liability or fault.

Cause: The Board took this action based on the following alleged violation of FHA requirements: MMS failed to timely notify FHA of a state sanction in fiscal year 2019.

49. Monarch Funding Corp, Anaheim, CA [Docket No. 20-2097-MR]

Action: On June 30, 2021, the Board voted to enter into a settlement agreement with Monarch Funding Corp (“Monarch Funding”) that included a civil money penalty of $15,000. The settlement did not constitute an admission of liability or fault.

Cause: The Board took this action based on the following alleged violations of FHA requirements: Monarch Funding (a) failed to maintain a warehouse line of credit in fiscal year 2019; (b) failed to timely notify FHA of a warehouse line of credit deficiency in fiscal year 2019; and (c) failed to maintain a warehouse line of credit in fiscal year 2020.

50. Multiples Mortgage Corporation, San Juan, PR [Docket No. 20-2126-MR]

Action: On May 18, 2021, the Board voted to enter into a settlement agreement with Multiples Mortgage Corporation (“Multiples”) that included a civil money penalty of $15,000. The settlement did not constitute an admission of liability or fault.

Cause: The Board took this action based on the following alleged violations of FHA requirements: Multiples (a) failed to timely notify FHA of operating losses exceeding 20 percent in fiscal year ended 2019; and (b) failed to timely notify FHA of a change in corporate officers in the fiscal years 2018 and 2020.

51. Network Funding LP, Houston, TX [Docket No. 20-2107-MR]

Action: On May 18, 2021, the Board voted to enter into a settlement agreement with Network Funding LP (“Network Funding”) that included a civil money penalty of $14,468. The settlement did not constitute an admission of liability or fault.

Cause: The Board took this action based on the following alleged violations of FHA requirements: Network Funding (a) failed to timely notify FHA of a state sanction in fiscal year 2016; and (b) submitted a false certification to FHA concerning fiscal year 2016.

52. New West Lending, Inc., Phoenix, AZ [Docket No. 21-2188-MR]

Action: On June 30, 2021, the Board voted to enter into a settlement agreement with New West Lending Inc. (“New West”) that included a civil money penalty of $10,000. The settlement did not constitute an admission of liability or fault.

Cause: The Board took this action based on the following alleged violations of FHA requirements: New West (a) failed to timely notify FHA of a state sanction in fiscal year 2020; and (b) overcharged an FHA borrower in violation of the Truth in Lending Act.

53. NJ Lenders Corporation, Little Falls, NJ [Docket No. 20-2155-MR]

Action: On May 18, 2021, the Board voted to enter into a settlement agreement with NJ Lenders Corporation (“NJ Lenders”) that included a civil money penalty of $15,067. The settlement did not constitute an admission of liability or fault.

Cause: The Board took this action based on the following alleged violations of FHA requirements: NJ Lenders (a) failed to timely notify FHA of a state sanction in fiscal year 2019; and (b) submitted a false certification to FHA concerning fiscal year 2019.

54. Pacific Residential Mortgage, LLC, Lake Oswego, OR [Docket No. 21-2162-MR]

Action: On June 30, 2021, the Board voted to enter into a settlement agreement with Pacific Residential Mortgage, LLC (“Pacific Residential”) that included a civil money penalty of $15,067. The settlement did not constitute an admission of liability or fault.

Cause: The Board took this action based on the following alleged violations of FHA requirements: Pacific Residential (a) failed to timely notify FHA of a state sanction in fiscal year 2019; and (b) submitted a false certification to FHA concerning fiscal year 2019.

55. Paragon Mortgage Corporation, Phoenix, AZ [Docket No. 20-2159-MR]

Action: On May 18, 2021, the Board voted to enter into a settlement agreement with Paragon Mortgage Corporation (“Paragon”) that included a civil money penalty of $20,000. The settlement did not constitute an admission of liability or fault.

Cause: The Board took this action based on the following alleged violations of FHA requirements: Paragon (a) failed to timely notify FHA of an operating loss in excess of 20 percent of its quarter-end net worth in fiscal year 2019; and (b) failed to submit to FHA the required quarterly financial statements following a quarterly loss exceeding 20 percent of net worth.

56. Polaris Home Funding Corporation, Grandville, MI [Docket No. 20-2021-MR]

Action: On May 18, 2021, the Board voted to enter into a settlement agreement with Polaris Home Funding Corporation (“Polaris Home Funding”) that included a civil money penalty of $29,886. The settlement did not constitute an admission of liability or fault.

Cause: The Board took this action based on the following alleged violations of FHA requirements: Polaris Home Funding (a) failed to timely notify FHA of state sanctions in fiscal years 2018 and 2019; and (b) submitted false certifications to FHA concerning fiscal year 2018 and 2019.

57. Premier Lending, Inc., Charlotte, NC [Docket No. 20-2146-MR]

Action: On May 18, 2021, the Board voted to enter into a settlement agreement with Premier Lending, Inc. (“Premier Lending”) that included a civil money penalty of $15,067. The settlement did not constitute an admission of liability or fault.

Cause: The Board took this action based on the following alleged violations of FHA requirements: Premier Lending (a) failed to timely notify FHA of a state sanction in fiscal year 2019; and (b) submitted a false certification to FHA concerning fiscal year 2019.

58. R M K Financial Corp d/b/a Majestic Home Loans, Ontario, CA [Docket No. 20-2086-MR]

Action: On November 18, 2020, the Board voted to enter into a settlement agreement with R M K Financial Corp. (“R M K”) that included a civil money penalty of $40,268 and execution of a five-year indemnification for two loans. The settlement did not constitute an admission of liability or fault.

Cause: The Board took this action based on the following alleged violations of FHA requirements: R M K (a) failed to adequately document and implement its Quality Control Program; (b) failed to identify a conflict of interest in connection with an FHA-insured mortgage; and (c) failed to document that a borrower had sufficient funds available from an acceptable source to close a loan.

59. Ready Mortgage Lenders, LLC, Miami, FL [Docket No. 21-2190-MR]

Action: On June 30, 2021, the Board voted to enter into a settlement agreement with Ready Mortgage Lenders, LLC (“Ready”) that included a civil money penalty of $10,000. The settlement did not constitute an admission of liability or fault.

Cause: The Board took this action based on the following alleged violations of FHA requirements: Ready (a) failed to timely notify FHA of a change in ownership in fiscal year 2017; and (b) failed to timely notify FHA of a state sanction in fiscal year 2020.

60. Renaissance Lenders Inc., Pasadena, MD [Docket No. 20-2152-MR]

Action: On September 21, 2021, the Board voted to enter into a settlement agreement with Renaissance Lenders Inc. (“Renaissance”) that included a civil money penalty of $90,000. The settlement did not constitute an admission of liability or fault.

Cause: The Board took this action based on the following alleged violations of FHA requirements: Renaissance (a) failed to maintain the minimum required adjusted net worth in fiscal years 2019 and 2020; (b) failed to timely notify FHA that it did not meet the adjusted net worth requirement in fiscal year 2019; (c) failed to maintain the required liquid assets in fiscal years 2019 and 2020; (d) failed to timely notify FHA that it did not meet the minimum liquid asset requirement in fiscal years 2019 and 2020; (e) failed to maintain an acceptable funding program in fiscal years 2019 and 2020; (f) failed to timely notify FHA of a funding program deficiency in fiscal year 2019; (g) failed to maintain the required fidelity bond coverage in fiscal year 2019; (h) failed to timely notify FHA of a change in fidelity bond coverage in fiscal year 2019; (i) failed to maintain the required fidelity bond coverage in fiscal year 2020; (j) failed to maintain the required error and omissions insurance in fiscal years 2019 and 2020; (k) failed to timely notify FHA of a change in error and omissions insurance in fiscal year 2019; and (l) failed to submit to FHA the required quarterly financial statements following a quarterly loss exceeding 20 percent of net worth.

61. Reverse Mortgage Funding, Bloomfield, NJ [Docket No. 20-2151-MR]

Action: On September 21, 2021, the Board voted to enter into a settlement agreement with Reverse Mortgage Funding (“Reverse Mortgage”) that included a repurchase of a Home Equity Conversion Mortgage (HECM) loan, execution of a life-of-loan indemnification for one HECM loan, and a civil money penalty of $10,067. The settlement did not constitute an admission of liability or fault.

Cause: The Board took this action based on the following alleged violations of FHA requirements: Reverse Mortgage (a) submitted false information in connection an assignment to FHA of a HECM in fiscal year 2019; and (b) assigned an ineligible HECM loan to FHA in fiscal year 2019.

62. River City Mortgage, LLC, Blue Ash, OH [Docket No. 21-2172-MR]

Action: On May 18, 2021, the Board voted to enter into a settlement agreement with River City Mortgage, LLC (“River City”) that included a civil money penalty of $10,000. The settlement did not constitute an admission of liability or fault.

Cause: The Board took this action based on the following alleged violations of FHA requirements: River City (a) failed to timely notify FHA of a state sanction in fiscal year 2019; and (b) failed to timely notify FHA of a state sanction in fiscal year 2020.

63. Semper Home Loans Inc., Providence, RI [Docket No. 21-2170-MR]

Action: On May 18, 2021, the Board voted to enter into a settlement agreement with Semper Home Loans, Inc. (“Semper”) that included a civil money penalty of $15,067. The settlement did not constitute an admission of liability or fault.

Cause: The Board took this action based on the following alleged violations of FHA requirements: Semper (a) failed to timely notify FHA of a state sanction in fiscal year 2019; and (b) submitted a false certification to FHA concerning fiscal year 2019.

64. Senior Mortgage Banker, Inc., San Juan, PR [Docket No. 20-2040-MR]

Action: On May 11, 2021, the Board voted to enter into a settlement agreement with Senior Mortgage Banker, Inc (“Senior”) that included a civil money penalty of $15,000. The settlement did not constitute an admission of liability or fault.

Cause: The Board took this action based on the following alleged violations of FHA requirements: Semper (a) failed to maintain the minimum required adjusted net worth in fiscal year 2017; (b) failed to timely notify FHA that it did not meet the adjusted net worth requirement in fiscal year 2017; and (c) failed to maintain the minimum required adjusted net worth in fiscal year 2018.

65. Servis One Inc. d/b/a BSI Financial Services, Irving, TX [Docket No. 20-2154-MR]

Action: On May 18, 2021, the Board voted to enter into a settlement agreement with Servis One, Inc. (“Servis”) that included a civil money penalty of $10,000. The settlement did not constitute an admission of liability or fault.

Cause: The Board took this action based on the following alleged violations of FHA requirements: Servis (a) failed to timely notify FHA of an operating loss in excess of 20 percent of its quarter-end net worth in fiscal year 2020; and (b) failed to timely notify FHA of a sanction in fiscal year 2020.

66. SIRVA Mortgage, Inc., Independence, OH [Docket No. 21-2197-MR]

Action: On September 21, 2021, the Board voted to enter into a settlement agreement with SIRVA Mortgage, Inc. (“SIRVA”) that included a civil money penalty of $5,000. The settlement did not constitute an admission of liability or fault.

Cause: The Board took this action based on the following alleged violation of FHA requirements: SIRVA failed to timely notify FHA of a state sanction in fiscal year 2020.

67. SouthPoint Financial Services, Inc., Alpharetta, GA [Docket No. 20-2084-MR]

Action: On May 18, 2021, the Board voted to enter into a settlement agreement with Southpoint Financial Services, Inc. (“SouthPoint”) that included a civil money penalty of $39,065. The settlement did not constitute an admission of liability or fault.

Cause: The Board took this action based on the following alleged violations of FHA requirements: SouthPoint (a) failed to timely notify FHA of an operating loss in excess of 20 percent of its net worth in fiscal year 2018; (b) failed to submit to FHA the required quarterly financial statements following a quarterly loss exceeding 20 percent of net worth; (c) failed to maintain the minimum required adjusted net worth in fiscal year 2018; and (d) failed to timely notify FHA that it did not meet the adjusted net worth requirement in fiscal year 2018.

68. Southwest Funding LP, Dallas, TX [Docket No. 20-2000-MR]

Action: On November 18, 2020, the Board voted to enter into a settlement agreement with Southwest Funding LP (“Southwest Funding”) that included a civil money penalty of $220,703. The settlement did not constitute an admission of liability or fault.

Cause: The Board took this action based on the following alleged violations of FHA requirements: Southwest Funding (a) failed to cooperate with FHA lender monitoring reviews in 2017 and 2018; (b) implemented a Quality Control Plan (QC) that omitted required elements; (c) failed to ensure its QC vendors made accurate loan sample risk assessments; (d) failed to self-report material findings for four loans; (e) failed to complete timely reviews of its early payment defaults in accordance with FHA requirements; and (f) failed to ensure that its training policies complied with FHA requirements.

69. Summit Funding Inc., Sacramento, CA [Docket No. 20-2161-MR]

Action: On June 30, 2021, the Board voted to enter into a settlement agreement with Summit Funding Inc. (“Summit Funding”) that included a civil money penalty of $15,067. The settlement did not constitute an admission of liability or fault.

Cause: The Board took this action based on the following alleged violations of FHA requirements: Summit Funding (a) failed to timely notify FHA of a state sanction in fiscal year 2019; and (b) submitted a false certification to FHA concerning fiscal year 2019.

70. TAM Lending Center, Inc., Cherry Hill, NJ [Docket No. 20-2014-MR]

Action: On May 11, 2021, the Board voted to enter into a settlement agreement with TAM Lending Center, Inc. (“TAM Lending Center”) that included a civil money penalty of $10,000. The settlement did not constitute an admission of liability or fault.

Cause: The Board took this action based on the following alleged violations of FHA requirements: TAM Lending Center (a) failed to maintain the minimum required adjusted net worth in fiscal year 2018; and (b) failed to timely notify FHA that it did not meet the adjusted net worth requirement in fiscal year 2018.

71. Thompson Kane & Company, LLC, Madison, WI [Docket No. 19-1987-MRT]

Action: On November 18, 2021, the Board voted to enter into a settlement agreement with Thompson Kane & Company (“Thompson Kane”) that included a civil money penalty of $39,819. The settlement did not constitute an admission of liability or fault.

Cause: The Board took this action based on the following alleged violations of FHA requirements: Thompson Kane (a) to comply with FHA's annual recertification requirements in a timely manner following fiscal year 2018; (b) failed to maintain the minimum required adjusted net worth in fiscal year 2018; (c) failed to timely notify FHA that it did not meet the adjusted net worth requirement in fiscal year 2018; (d) failed to maintain the required liquid assets in fiscal year 2018; (e) failed to timely notify FHA that it did not meet the minimum liquid asset requirement in fiscal year 2018; (f) failed to timely notify FHA of an operating loss in excess of 20 percent of its quarter-end net worth in fiscal year 2018; and (g) failed to submit to FHA the required quarterly financial statements following a quarterly loss exceeding 20 percent of net worth in fiscal year 2018.

72. Total Media Management LLC d/b/a New South Mortgage, Huntsville, AL [Docket No. 19-1941-MR]

Action: On June 30, 2021, the Board voted to enter into a settlement agreement with Total Media Management, Inc. (“Total Media”) that included a civil money penalty of $142,619 and execution of a life-of-loan indemnification for six HECM loans. The settlement did not constitute an admission of liability or fault.

Cause: The Board took this action based on the following alleged violations of FHA requirements: Total Media (a) failed to maintain the minimum required adjusted net worth in fiscal years 2017, 2018, and 2019; (b) failed to timely notify FHA that it did not meet the adjusted net worth requirement in fiscal years 2017, 2018, and 2019; (c) failed to maintain the required liquid assets in 2017; (d) failed to timely notify FHA that it did not meet the minimum liquid asset requirement in fiscal year 2017; (e) violated FHA's underwriting requirements for three HECM loans by failing to analyze the borrower's credit history to determine the borrower's willingness and ability to timely meet the financial obligations; and (f) violated FHA's underwriting requirements for five HECM loans by failing to document the borrower's income, verify the accuracy of the income reported, or determine whether the offered income was effective income.

73. Unify Home Lending, Inc., Rapid City, SD [Docket No. 20-2094-MR]

Action: On November 18, 2020, the Board voted to enter into a settlement agreement with Unify Home Lending, Inc. (“Unify”) that included a civil money penalty of $15,067. The settlement did not constitute an admission of liability or fault.

Cause: The Board took this action based on the following alleged violations of FHA requirements: Unify (a) failed to maintain the minimum required adjusted net worth in fiscal year 2019; and (b) failed to timely notify FHA that it did not meet the adjusted net worth requirement in fiscal year 2019.

74. United Community Banks, Inc., Greenville, SC [Docket No. 21-2210-MR]

Action: On September 21, 2021, the Board voted to enter into a settlement agreement with United Community Banks, Inc. (“United Community”) that included a civil money penalty of $5,000. The settlement did not constitute an admission of liability or fault.

Cause: The Board took this action based on the following alleged violation of FHA requirements: United Community failed to notify FHA of a change in business structure in fiscal year 2020.

75. United Shore Financial Services, LLC, Pontiac, MI [Docket No. 20-2075-MR]

Action: On November 18, 2020, the Board voted to enter into a settlement agreement with United Shore Financial Services, LLC (“United Shore”) that included reimbursement of claims for FHA mortgage insurance for five loans in the amount of $675,861.89. The settlement did not constitute an admission of liability or fault.

Cause: The Board took this action based on the following alleged violations of FHA requirements: United Shore violated FHA's underwriting requirements for five loans for (a) failure to document transfer of gift funds; (b) failure to document source of funds used to pay off a debt and pre-closing deposits; (c) failure to manually underwrite loans that had disputed credit report entries; (d) failure to properly calculate and document borrower income; (e) failure to properly verify borrower assets; (f) failure to order a required second appraisal; and (g) failure to include all borrower debts.

76. Vibrant Credit Union, Moline, IL [Docket No. 20-2102-MR]

Action: On November 18, 2021, the Board voted to enter into a settlement agreement with Vibrant Credit Union (“Vibrant”) that included a civil money penalty of $5,000. The settlement did not constitute an admission of liability or fault.

Cause: The Board took this action based on the following alleged violation of FHA requirements: Vibrant failed to timely notify FHA of a change in business structure in fiscal year 2019.

77. Victorian Finance LLC, Pittsburgh, PA [Docket No. 20-2139-MR]

Action: On May 11, 2021, the Board voted to enter into a settlement agreement with Victorian Finance LLC (“Victorian Finance”) that included a civil money penalty of $5,000. The settlement did not constitute an admission of liability or fault.

Cause: The Board took this action based on the following alleged violations of FHA requirements: Victorian Finance (a) failed to timely notify FHA of a state sanction in fiscal year 2019; and (b) submitted a false certification to FHA concerning fiscal year 2019.

78. WestCoast Mortgage Group and Realty Company, Sacramento, CA [Docket No. 20-2133-MR]

Action: On May 18, 2021, the Board voted to enter into a settlement agreement with WestCoast Mortgage Group and Realty Company (“West Coast”) that included a civil money penalty of $5,000. The settlement did not constitute an admission of liability or fault.

Cause: The Board took this action based on the following alleged violation of FHA requirements: West Coast failed to timely notify FHA of a state sanction in fiscal year 2019.

79. Westerra Credit Union, Denver, CO [Docket No. 20-2158-MR]

Action: On May 18, 2021, the Board voted to enter into a settlement agreement with. Westerra Credit Union (“Westerra”) that included a civil money penalty of $5,000. The settlement did not constitute an admission of liability or fault.

Cause: The Board took this action based on the following alleged violation of FHA requirements: Westerra failed to notify FHA of a change in business structure in fiscal year 2019.

80. Willow Bend Mortgage Company LLC, Plano, TX [Docket No. 21-2169-MR]

Action: On May 18, 2021, the Board voted to enter into a settlement agreement with. Willow Bend Mortgage Company LLC (“Willow Bend”) that included a civil money penalty of $5,000. The settlement did not constitute an admission of liability or fault.

Cause: The Board took this action based on the following alleged violation of FHA requirements: Willow Bend failed to timely notify FHA of a state sanction in fiscal year 2019.

81. WVMF Funding LLC, Wilmington, DE [Docket No. 21-2217-MR]

Action: On September 21, 2021, the Board voted to enter into a settlement agreement with WVMF Funding LLC (“WVMF”) that included a civil money penalty of $10,000. The settlement did not constitute an admission of liability or fault.

Cause: The Board took this action based on the following alleged violations of FHA requirements: WVMF (a) failed to maintain the minimum required adjusted net worth in fiscal year 2020; and (b) failed to timely notify FHA that it did not meet the adjusted net worth requirement in fiscal year 2020.

II. Lenders That Failed to Timely Meet Requirements for Annual Recertification of FHA Approval but Came Into Compliance

Action: The Board entered into settlement agreements with the following lenders, which required the lender to pay a civil money penalty without admitting fault or liability.

Cause: The Board took these actions based upon allegations that the listed lenders failed to comply with FHA's annual recertification requirements in a timely manner.

The following lenders paid civil money penalties of $10,245.

1. Cross River Bank, Teaneck, NJ [Docket No. 21-2231-MRT]

2. Financial Partners Credit Union, Downey, CA [Docket No. 21-2218-MRT]

3. West One Capital Group, Inc., Newport Beach, CA [Docket No. 21-2222-MRT]

The following lender paid civil money penalties of $10,067.

4. Rusty Rose Inc., Miami, FL [Docket No. 20-2105-MRT]

The following lender paid civil money penalties of $10,000.

5. Logan Finance Corporation, Blytheville, AR [Docket No. 21-2178]

The following lender paid civil money penalties of $9,623.

6. Idaho First Bank, Boise, ID [Docket No. 20-2106-MRT]

The following lenders paid civil money penalties of $5,000.

7. Cooperativa De Ahorro y Crédito Caguas, Caguas, PR [Docket No. 21-2164-MRT]

8. Eclipse Bank, Inc., Louisville, KY [Docket No. 21-2212-MRT]

9. FedEx Employees Credit Association, Memphis, TN [Docket No. 21-2239-MRT]

10. First Independence Bank, Detroit, MI [Docket No. 21-2228-MRT]

11. First National Bank of Tom Bean, Tom Bean, TX [Docket No. 21-2226-MRT]

12. Genhome Mortgage Corporation f/k/a Beckham Funding Corp., Irvine, CA [Docket No. 21-2237-MRT]

13. Greenbox Loan, Inc., Los Angeles, CA [Docket No. 21-2244-MRT]

14. Home Financing Center, Inc., Coral Gables, FL [Docket No. 21-2141-MRT]

15. Sterling Bank and Trust, F.S.B., Southfield, MI [Docket No. 20-2101-MRT]

16. Washington County Bank, Blair, NE [Docket No. 21-2219-MRT]

17. Wyoming Community Bank, Riverton, WY [Docket No. 20-2108-MRT]

III. Lenders That Failed To Meet Requirements for Annual Recertification of FHA Approval

The Board voted to withdraw Essential Federal Credit Union of Baton Rouge, LA for a period of one year on September 19, 2019 for its alleged failure to meet the annual recertification requirements in fiscal year 2018.

Lopa P. Kolluri,
Principal Deputy Assistant Secretary for Housing—Federal Housing Administration, Mortgagee Review Board.

[FR Doc. 2022-08340 Filed 4-18-22; 8:45 am]

BILLING CODE 4210-67-P